DEPARTMENT OF TRANSPORTATION

Federal Aviation Administration

14 CFR Part 97

[Docket No. 30257; Amdt. No. 2059]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference—approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing and anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on July 6, 2001.
Nicholas A. Sabatini,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§ 97.23, 97.25, 97.27, 97.29, 97.31, 97.33 and 97.35 [Amended]

By amending: § 97.23, VOR, VOR/DME, VOR or TACAN, and VOR/DME or TACAN; § 97,25 LOC/DME, LDA, LDA/DME, SDF, SDF/DME; § 97.27 NDB, NDB/DME; § 97.29 ILS, ILS/DME, ISMLS, MLS, MLS/DME, MLS/DME, MLS/RNAV; § 97.31 RADAR SIAPs; § 97.33 RNAV SIAPs; and § 97.35 COPTER SIAPs, identified as follows:

* * * Effective August 9, 2001

Waco, TX, Mc Gregor Executive, VOR RWY 17, Amdt 10

* * * Effective September 6, 2001

Harrison, AR, Boone County, NDB-B, Amdt 2B

Brinkley, AR, Frank Federer Memorial, NDB-A, Amdt 2

Brinkley, AR, Frank Federer Memorial, RNAV (GPS) RWY 20, Orig

Brinkley, AR, Frank Federer Memorial, GPS RWY 20, Orig-A (Cancelled)

Eagle, CO, Eagle County Regional, RNAV (GPS) D. Orig

Eagle, CO, Eagle County Regional, GPS-D, Orig (Cancelled)

Orlando, FL, Orlando Sanford, RNAV RWY 9L, Amdt 1

Olathe, KS, Johnson County Executive, VOR RWY 36, Amdt 11

Olathe, KS, Johnson County Executive, NDB-B, Amdt 3

Olathe, KS, Johnson County Executive, NDB RWY 36, Amdt 1

Olathe, KS, Johnson County Executive, NDB RWY 18, Amdt 4

Olathe, KS, Johnson County Executive, LOC RWY 36, Amdt 1

Olathe, KS, Johnson County Executive, LOC RWY 18, Amdt 7

Olathe, KS, Johnson County Executive, GPS RWY 36, Orig-B (Cancelled)

Olathe, KS, Johnson County Executive, RNAV (GPS) RWY 36, Orig

Olathe, KS, Johnson County Executive, RNAV (GPS) RWY 18, Orig

Alexandria, LA, Alexandria Intl, RNAV (GPS) RWY 18, Orig

Alexandria, LA, Alexandria Intl, RNAV (GPS) RWY 32, Orig

Alexandria, LA, Alexandria Intl, GPS RWY 18, Orig-C (Cancelled)

Brainerd, MN, Brainerd-Crow Wing Co Regional, RNAV (GPS) RWY 5, Orig

Brainerd, MN, Brainerd-Crow Wing Co Regional, GPS RWY 5, Orig (Cancelled)

Minneapolis, MN, Flying Cloud, VOR RWY 9R, Amdt 8

Minneapolis, MN, Flying Cloud, ILS RWY 9R, Amdt 2

Minneapolis, MN, Flying Cloud, RNAV (GPS) RWY 36, Amdt 1

Bay St. Louis, MS, Stennis Intl, VOR OR GPS-A, Amdt 6

Miles, MT, Frank Wiley Field, RNAV (GPS) RWY 4, Orig

Kansas City, MO, Kansas City Intl, RNAV (GPS) RWY 1L, Orig

Kansas City, MO, Kansas City Intl, RNAV (GPS) RWY 1R, Orig

Kansas City, MO, Kansas City Intl, RNAV (GPS) Y RWY 9, Orig

Kansas City, MO, Kansas City Intl, RNAV (GPS) Z RWY 9, Orig

Kansas City, MO, Kansas City Intl, RNAV (GPS) RWY 19L, Orig

Kansas City, MO, Kansas City Intl, RNAV (GPS) RWY 19R, Orig

Kansas City, MO, Kansas City Intl, RNAV (GPS) RWY 27, Orig

Kansas City, MO, Kansas City Intl, GPS RWY 1R, Orig (Cancelled)

Kansas City, MO, Kansas City Intl, GPS RWY 9, Orig (Cancelled)

Kansas City, MO, Kansas City Intl, GPS RWY 19R, Orig (Cancelled)

Kansas City, MO, Kansas City Intl, GPS RWY 27, Orig (Cancelled)

Charlotte, NC, Charlotte/Douglas Intl, RNAV (GPS) RWY 5, Orig

Charlotte, NC, Charlotte/Douglas Intl, RNAV (GPS) RWY 18L, Orig

Charlotte, NC, Charlotte/Douglas Intl, RNAV (GPS) RWY 18R, Orig

Charlotte, NC, Charlotte/Douglas Intl, RNAV (GPS) RWY 23, Orig

Charlotte, NC, Charlotte/Douglas Intl, RNAV (GPS) RWY 36L, Orig

Charlotte, NC, Charlotte/Douglas Intl, RNAV (GPS) RWY 36R, Orig

Charlotte, NC, Charlotte/Douglas Intl, GPS RWY 5, Orig (Cancelled)

Charlotte, NC, Charlotte/Douglas Intl, GPS RWY 23, Orig (Cancelled)

Charlotte, NC, Charlotte/Douglas Intl, GPS RWY 36L, Orig (Cancelled)

Charlotte, NC, Charlotte/Douglas Intl, GPS RWY 36R, Orig (Cancelled)

Kinston, NC, Kinston Regional Jetport at Stallings Fld, RNAV (GPS) RWY 5, Amdt 1

Kinston, NC, Kinston Regional Jetport at Stallings Fld, RNAV (GPS) RWY 23, Orig

Lincoln, NE, Lincoln Muni, GPS RWY 14, Orig-A (Cancelled)

Durant, OK, Eaker Field, GPS RWY 35, Orig-A

Enid, OK, Enid Woodring Muni, NDB RWY 35, Amdt 6B

Miami, OK, Miami Muni, GPS RWY 17, Orig-A

Muskogee, OK, Davis Field, GPS RWY 4, Orig-B

Muskogee, OK, Davis Field, NDB RWY 31, Amdt 9A

Oklahoma City, OK, Will Rogers World, RNAV (GPS) RWY 13, Orig

Oklahoma City, OK, Will Rogers World, RNAV (GPS) RWY 17L, Orig

Oklahoma City, OK, Will Rogers World, RNAV (GPS) RWY 17R, Orig

Oklahoma City, OK, Will Rogers World, RNAV (GPS) RWY 35L, Orig

Oklahoma City, OK, Will Rogers World, RNAV (GPS) RWY 35R, Orig

Oklahoma City, OK, Will Rogers World, GPS RWY 17L, Orig (Cancelled)

Oklahoma City, OK, Will Rogers World, GPS RWY 17R, Orig (Cancelled)

Oklahoma City, OK, Will Rogers World, GPS RWY 35L, Orig (Cancelled)

Oklahoma City, OK, Will Rogers World, GPS RWY 35R, Orig (Cancelled)

Pittsburgh, PA, Allegheny County, RNAV (GPS) RWY 5, Amdt 1

Pittsburgh, PA, Allegheny County, RNAV (GPS) RWY 10, Amdt 1

Pittsburgh, PA, Allegheny County, RNAV (GPS) RWY 28, Amdt 1

Pittsburgh, PA, Pittsburgh Intl, RNAV (GPS) RWY 10C, Amdt 1

Pittsburgh, PA, Pittsburgh Intl, RNAV (GPS) RWY 10L, Amdt 1

Pittsburgh, PA, Pittsburgh Intl, RNAV (GPS) RWY 10R, Amdt 1

Pittsburgh, PA, Pittsburgh Intl, RNAV (GPS) RWY 14, Amdt 1

Pittsburgh, PA, Pittsburgh Intl, RNAV (GPS) Y RWY 28C, Orig

Pittsburgh, PA, Pittsburgh Intl, RNAV (GPS) Z RWY 28C, Amdt 1

Pittsburgh, PA, Pittsburgh Intl, RNAV (GPS) Y RWY 28L, Orig

Pittsburgh, PA, Pittsburgh Intl, RNAV (GPS) Z RWY 28L, Amdt 1

Pittsburgh, PA, Pittsburgh Intl, RNAV (GPS) RWY 28R, Amdt 1

Pittsburgh, PA, Pittsburgh Intl, RNAV (GPS) Y RWY 32, Orig

Pittsburgh, PA, Pittsburgh Intl, RNAV (GPS) Z RWY 38, Amdt 1

Abilene, TX, Abilene Regional, RNAV (GPS) RWY 17L, Orig

Abilene, TX, Abilene Regional, RNAV (GPS) RWY 35R, Orig

Abilene, TX, Abilene Regional, GPS RWY 17L, Orig (Cancelled)

Abilene, TX, Abilene Regional, GPS RWY 35R, Orig (Cancelled)

Bay City, TX, Bay City Muni, GPS RWY 31, Orig-A

Beaumont, TX, Beaumont Muni, RNAV (GPS) RWY 13, Orig

Beaumont, TX, Beaumont Muni, RNAV (GPS) RWY 31, Orig

Beaumont, TX, Beaumont Muni, VOR/DME RWY 13, Amdt 3

Beaumont, TX, Beaumont Muni, VOR/DME RWY 31, Amdt 4

Beaumont, TX, Beaumont Muni, GPS RWY 13, Orig (Cancelled)

Fort Worth, TX, Fort Worth Meacham, GPS RWY 34R, Orig-A

Lubbock, TX, Lubbock Intl, LOC BC RWY 35L, Amdt 18A

Lufkin, TX, Angelina County, GPS RWY 7, Orig-A

Lufkin, TX, Angelina County, NDB RWY 7, Amdt 2A

Lufkin, TX, Angelina County, VOR/DME RNAV RWY 7, Amdt 3A

Lufkin, TX, Angelina County, VOR/DME RNAV RWY 15, Amdt 4A

Tyler, TX, Tyler Pounds Field, RNAV (GPS) RWY 4, Orig

Tyler, TX, Tyler Pounds Field , RNAV (GPS) RWY 13, Orig

Tyler, TX, Tyler Pounds Field, RNAV (GPS) RWY 22, Orig

Tyler, TX, Tyler Pounds Field, RNAV (GPS) RWY 31, Orig

Tyler, TX, Tyler Pounds Field, GPS RWY 31, Orig (Cancelled)

Tyler, TX, Tyler Pounds Field, NDB RWY 13, Amdt 17E

Tyler, TX, Tyler Pounds Field, VOR/DME RWY 22, Amdt 3D

Tyler, TX, Tyler Pounds Field, VOR/DME RWY 4, Admt 3D

Suffolk, VA, Suffolk Muni, RNAV (GPS) RWY 4, Orig

Suffolk, VA, Suffolk Muni, GPS RWY 4, Orig-B (Cancelled)

[FR Doc. 01-17861 Filed 7-16-01; 8:45 am]

BILLING CODE 4910-13-M